DEPARTMENT OF COMMERCE

National Oceanic and Atmospheric Administration

[RTID 0648-XD618]

North Pacific Fishery Management Council; Public Meeting

AGENCY: National Marine Fisheries Service (NMFS), National Oceanic and Atmospheric Administration (NOAA), Commerce.

ACTION: Notice of web conference.

SUMMARY: The North Pacific Fishery Management Council (Council) Scientific and Statistical Committee Informational meeting will be held.

DATES: The meeting will be held on Friday, January 19, 2024, from 8 a.m. to 12 p.m., Alaska time.

ADDRESSES: The meeting will be a web conference. Join online through the link at https://meetings.npfmc.org/Meeting/Details/3032.

Council address: North Pacific Fishery Management Council, 1007 W 3rd Ave., Suite 400, Anchorage, AK 99501-2252; telephone: (907) 271-2809. Instructions for attending the meeting via video conference are given under SUPPLEMENTARY INFORMATION, below.

FOR FURTHER INFORMATION CONTACT: Nicole Watson, Council staff; phone: (907) 271-2809; email: Nicole.watson@noaa.gov. For technical support, please contact our admin Council staff, email: npfmc.admin@noaa.gov.

SUPPLEMENTARY INFORMATION:

Agenda

Friday, January 19, 2024

The SSC will meet to receive staff presentations on the Cook Inlet Salmon Stock Assessment and Fishery Evaluation (SAFE) report. In the presentation from NOAA, the SSC will receive proposed stock definitions, tier assignments, status determination criteria, and harvest specifications, which the SSC is tasked with recommending in February 2024 for the Federal fishery of Cook Inlet salmon stocks. The meeting is informational, to orient SSC members in their review of the SAFE report in advance of the February 2024 meeting. No decisions will be made at the informational meeting. The agenda is subject to change, and the latest version will be posted at https://meetings.npfmc.org/Meeting/Details/3032 prior to the meeting, along with meeting materials.

Connection Information

You can attend the meeting online using a computer, tablet, or smart phone; or by phone only. Connection information will be posted online at: https://meetings.npfmc.org/Meeting/Details/3032. The meeting will be recorded and a link to the recording will be posted on the eAgenda once the meeting concludes.

Public Comment

Public comment letters will be accepted in advance of the meeting and should be submitted electronically to https://meetings.npfmc.org/Meeting/Details/3032.

Authority: 16 U.S.C. 1801 et seq.

Dated: December 29, 2023.
Diane M. DeJames-Daly,
Acting Deputy Director, Office of Sustainable Fisheries, National Marine Fisheries Service.

[FR Doc. 2023-28986 Filed 1-3-24; 8:45 am]

BILLING CODE 3510-22-P